DEPARTMENT OF TRANSPORTATION

Federal Aviation Administration

14 CFR Part 97

[Docket No. 30243; Amdt. No. 2046]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference—approved by the Director of the Federal Register on December 31, 1980, and reapproved as of January 1, 1982.

ADDRESSES: Availability of matters incorporated by reference in the amendment is as follows:

For Examination

1. FAA Rules Docket, FAA Headquarters Building, 800 Independence Avenue, SW., Washington, DC 20591;

2. The FAA Regional Office of the region in which the affected airport is located; or

3. The Flight Inspection Area Office which originated the SIAP.

For Purchase

Individual SIAP copies may be obtained from:

1. FAA Public Inquiry Center (APA-200), FAA Headquarters Building, 800 Independence Avenue, SW., Washington, DC 20591; or

2. The FAA Regional Office of the region in which the affected airport is located.

By Subscription

Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125), telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents in unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact on a regulatory evaluation as the anticipated impact is so minimal. For the same reason, the FAA certifies that this amendment will not have a significant economic impact on a substantial number of small entities under the criteria of the Regulatory Flexibility Act.

List of Subjects in 14 CFR Part 97

Air traffic control, Airports, Navigation (Air).

Issued in Washington, DC on April 13, 2001.
L. Nicholas Lacy,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 106(g), 40103, 40113, 40120, 44701; and 14 CFR 11.49(b)(2).

2. Part 97 is amended to read as follows:

§§ 97.23, 97.25, 97.27, 97.29, 97.31, 97.33, 97.35 [Amended]

By amending § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

Effective May 17, 2001

Dothan, AL, Dothan Regional, RNAV (GPS) RWY 14, Orig

Dothan, AL, Dothan Regional, RNAV (GPS) RWY 18, Orig

Emmonak, AK, Emmonak, RNAV (GPS) RWY 16, Orig

Emmonak, AK, Emmonak, RNAV (GPS) RWY 34, Orig

Tucson, AZ, Tucson Intl, RNAV (GPS) RWY 3, Orig

Tucson, AZ, Tucson Intl, RNAV (GPS) RWY 11L, Orig

Tucson, AZ, Tucson Intl, RNAV (GPS) RWY 11R, Orig

Tucson, AZ, Tucson Intl, RNAV (GPS) RWY 21, Orig

Tucson, AZ, Tucson Intl, RNAV (GPS) RWY 29L, Orig

Tucson, AZ, Tucson Intl, RNAV (GPS) RWY 29R, Orig

Boise, ID, Boise Air Terminal (Gowen Field), RNAV (GPS) RWY 10R, Orig

Boise, ID, Boise Air Terminal (Gowen Field), RNAV (GPS) RWY 10L, Orig

Boise, ID, Boise Air Terminal (Gowen Field), RNAV (GPS) RWY 28L, Orig

Boise, ID, Boise Air Terminal (Gowen Field), GPS RWY 10L, Orig-A, (CANCELLED)

Boise, ID, Boise Air Terminal (Gowen Field), GPS RWY 28L, Amdt 1C, (CANCELLED)

Rockford, IL, Greater Rockford, NDB RWY 1, Amdt 25C

Rockford, IL, Greater Rockford, RNAV (GPS) RWY 1, Orig

Rockford, IL, Greater Rockford, RNAV (GPS) RWY 7, Orig

Rockford, IL, Greater Rockford, RNAV (GPS) Y RWY 19, Orig

Rockford, IL, Greater Rockford, RNAV (GPS) Z RWY 19, Orig

Rockford, IL, Greater Rockford, RNAV (GPS) Y RWY 25, Orig

Rockford, IL, Greater Rockford, RNAV (GPS) Z RWY 25, Orig

Toledo, OH, Toledo Express, NDB RWY 7, Amdt 24B

Toledo, OH, Toledo Express, VOR/DME RNAV RWY 16, Amdt 5B

Toledo, OH, Toledo Express, VOR/DME RWY 34, Amdt 7A

Toledo, OH, Toledo Express, RNAV (GPS) RWY 7, Orig

Toledo, OH, Toledo Express, RNAV (GPS) RWY 16, Orig

Toledo, OH, Toledo Express, RNAV (GPS) RWY 25, Orig

Toledo, OH, Toledo Express, RNAV (GPS) RWY 34, Orig

Effective June 14, 2001

Bay City, TX, Bay City Muni, NDB RWY 13, Amdt 4

Fulton, NY, Oswego County, VOR RWY 33, Amdt 5

Fulton, NY, Oswego County, GPS RWY 24, Orig, CANCELLED

Fulton, NY, Oswego County, RNAV (GPS) RWY 24, Orig

Effective July 12, 2001

Bethel, AK, Bethel, RNAV (GPS) RWY 18, Orig

Bethel, AK, Bethel, RNAV (GPS) RWY 36, Orig

Bethel, AK, Bethel, GPS RWY 18, Orig-A (CANCELLED)

Bethel, AK, Bethel, GPS RWY 36, Orig-A (CANCELLED)

Deland, FL, Deland Muni-Sidney H Taylor Field, NDB OR GPS RWY 30, Amdt 1A, CANCELLED

Panama City, FL, Panama City-Bay County Intl, RNAV (GPS) RWY 5, Orig

Panama City, FL, Panama City-Bay County Intl, RNAV (GPS) RWY 14, Orig

Panama City, FL, Panama City-Bay County Intl, RNAV (GPS) RWY 23, Orig

Panama City, FL, Panama City-Bay County Intl, RNAV (GPS) RWY 32, Orig

Peoria, IL, Greater Peoria Regional, RNAV (GPS) RWY 4, Orig

Peoria, IL, Greater Peoria Regional, RNAV (GPS) RWY 13, Orig

Peoria, IL, Greater Peoria Regional, RNAV (GPS) RWY 31, Orig

Baton Rouge, LA, Baton Rouge Metroplitan Ryan Field, NDB OR GPS RWY 13, Amdt 24

Baton Rouge, LA, Baton Rouge Metroplitan Ryan Field, ILS RWY 13, Amdt 26

Wilmington, NC, Wilmington Intl, RNAV (GPS) RWY 6, Orig

Wilmington, NC, Wilmington Intl, RNAV (GPS) RWY 17, Orig

Wilmington, NC, Wilmington Intl, RNAV (GPS) RWY 24, Orig

Wilmington, NC, Wilmington Intl, RNAV (GPS) RWY 35, Orig

Wilmington, NC, Wilmington Intl, GPS RWY 6, Amdt 1A

Wilmington, NC, Wilmington Intl, GPS RWY 24, Amdt 1A

Ruidoso, NM, Sierra Blanca Regional, NDB RWY 24, Amdt 1B (CANCELLED)

McAlester, OK, McAlester Regional, LOC RWY 1, Amdt 4

McAlester, OK, McAlester Regional, NDB RWY 1, Amdt 3

McAlester, OK, McAlester Regional, VOR/DME RWY 19, Amdt 2

Charlottesville, VA, Chalottesville-Albermarle, RNAV (GPS) RWY 3, Amdt 1

Pasco, WA, Tri-Cities, VOR/DME RWY 30, Amdt 2

Pasco, WA, Tri-Cities, RNAV (GPS) RWY 30, Orig

Appleton, WI, Outagamie County Regional, VOR/DME RWY 21, Orig-C

Appleton, WI, Outagamie County Regional, NDB RWY 3, Amdt 14E

Appleton, WI, Outagamie County Regional, RNAV (GPS) RWY 3, Orig

Appleton, WI, Outagamie County Regional, RNAV (GPS) RWY 11, Orig

Appleton, WI, Outagamie County Regional, RNAV (GPS) RWY 21, Orig

Appleton, WI, Outagamie County Regional, RNAV (GPS) RWY 29, Orig

[FR Doc. 01-9882 Filed 4-20-01; 8:45 am]

BILLING CODE 4910-13-M